DEPARTMENT OF THE TREASURY

Fiscal Service

31 CFR Part 285

RIN 1510-AB20

Offset of Tax Refund Payments To Collect Past-Due, Legally Enforceable Nontax Debt; Correction

AGENCY: Financial Management Service, Fiscal Service, Treasury.

ACTION: Correcting amendment.

SUMMARY: The Department of the Treasury, Financial Management Service published a document in the Federal Register on Monday, December 28, 2009. That document inadvertently contained incorrect dates in the rule. This document corrects those dates.

DATES: Effective on January 4, 2010.

FOR FURTHER INFORMATION CONTACT: Thomas Dungan, Senior Policy Analyst, at (202) 874-6660, or Tricia Long, Senior Counsel, at (202) 874-6680.

SUPPLEMENTARY INFORMATION: The Department of the Treasury, Financial Management Service published a document in the Federal Register on Monday, December 28, 2009 (74 FR 68537). That document inadvertently contained incorrect dates in the rule. This document corrects the dates set forth in paragraph (d)(6) of § 285.2.

List of Subjects in 31 CFR Part 285

Administrative practice and procedure, Black lung benefits, Child support, Claims, Credit, Debts, Disability benefits, Federal employees, Garnishment of wages, Hearing and appeal procedures, Loan programs, Privacy, Railroad retirement, Railroad unemployment insurance, Salaries, Social Security benefits, Supplemental Security Income (SSI), Taxes, Veteran's benefits, Wages.

Accordingly, 31 CFR part 285 is corrected by making the following correcting amendment:

PART 285—DEBT COLLECTION AUTHORITIES UNDER THE DEBT COLLECTION IMPROVEMENT ACT OF 1996

1. The authority citation for part 285 continues to read as follows:

Authority: 5 U.S.C. 5514; 26 U.S.C. 6402; 31 U.S.C. 321, 3701, 3711, 3716, 3719, 3720A, 3720B, 3720D; 42 U.S.C. 664; E.O. 13019, 61 FR 51763, 3 CFR, 1996 Comp., p. 216.

§ 285.2 [Corrected]

2. In § 285.2, remove “January 27, 2010” wherever it appears, and add, in its place, “December 28, 2009”.

Dated: January 4, 2010.
David A. Lebryk,
Commissioner, Financial Management Service.

[FR Doc. 2010-20 Filed 1-4-10; 4:15 pm]

BILLING CODE 4810-35-P